DEPARTMENT OF AGRICULTURE

Cooperative State Research, Education, and Extension Service

Proposed Revisions to the Guidelines for State Plans of Work for the Agricultural Research and Extension Formula Funds

AGENCY: Cooperative State Research, Education, and Extension Service, USDA.

ACTION: Notice and request for comment.

SUMMARY: The Cooperative State Research, Education, and Extension Service (CSREES) is requesting public comment on proposed revisions to the Guidelines for State Plans of Work for the Agricultural Research and Extension Formula Funds (64 FR 19242-19248). These guidelines prescribe the procedures to be followed by the eligible institutions receiving Federal agricultural research and extension formula funds under the Hatch Act of 1887, as amended (7 U.S.C. 361a et seq.); sections 3(b)(1) and (c) of the Smith-Lever Act of 1914, as amended (7 U.S.C. 343 (b)(1) and (c)); and sections 1444 and 1445 of the National Agricultural Research, Extension, and Teaching Policy Act of 1977, as amended (7 U.S.C. 3221 and 3222). The recipients of these funds are commonly referred to as the 1862 land-grant institutions and 1890 land-grant institutions, including Tuskegee University and West Virginia State College. CSREES also is requesting public comment on the revision and reinstatement of a previously approved information collection (OMB No. 0524-0036) associated with these Guidelines.

DATES: Written comments are invited from interested individuals and organizations. To be considered in the formulation of the guidelines, comments must be received on or before September 8, 2003.

ADDRESSES: Address all comments to CSREES-USDA; Planning and Accountability, Office of the Administrator, Mail Stop 2214; 1400 Independence Avenue, SW., Washington, DC 20250-2214. Comments may be hand-delivered to CSREES-USDA; Planning and Accountability, Office of the Administrator, Room 1325; 800 9th Street, SW., Washington, DC 20024. Comments may also be mailed electronically to bhewitt@csrees.usda.gov.

FOR FURTHER INFORMATION CONTACT: Mr. Bart Hewitt; Program Analyst, Planning and Accountability, Office of the Administrator; Cooperative State Research, Education, and Extension Service; U.S. Department of Agriculture; Washington, DC 20250; at 202-720-5623, 202-720-4730 (fax) or via electronic mail at bhewitt@csrees.usda.gov.

SUPPLEMENTARY INFORMATION:

Paperwork Reduction Act

In accordance with the Office of Management and Budget (OMB) regulations (5 CFR part 1320) that implement the Paperwork Reduction Act of 1995 (44 U.S.C. chapter 35), the information collection and recordkeeping requirements imposed by the implementation of these guidelines have been submitted to OMB for approval. Those requirements will not become effective prior to OMB approval. The eligible institutions will be notified upon this approval.

Title: Reporting Requirements for State Plans of Work for Agricultural Research and Extension Formula Funds.

Summary: The purpose of this collection of information is to implement the requirements of section 7 of the Hatch Act of 1887, as amended (7 U.S.C. 361g); section 4 of the Smith-Lever Act, as amended (7 U.S.C. 343); and section 1444(d) and section 1445(c) of the National Agricultural Research, Extension, and Teaching Policy Act of 1977 (NARETPA), as amended (7 U.S.C. 3221(d) and 3222 (c)), which require that before funds may be provided to a State or eligible institution under these Acts a plan of work must be submitted by the proper officials of the State or eligible institution, as appropriate, and approved by the Secretary of Agriculture.

Need for the Information: The Agricultural Research, Extension, and Education Reform Act of 1998 (AREERA), Pub. L. 105-185, amended the Hatch Act of 1887, Smith-Lever Act, and sections 1444 and 1445 of NARETPA to require plans of work to be received and approved by CSREES prior to the distribution of funding authorized under these Acts. This collection of information will satisfy the plan of work reporting requirements as imposed by these Acts. This collection of information includes two parts: (1) The submission of a FY 2005-FY 2006 Plan of Work Update to extend the current FY 2000-FY 2004 5-Year Plan of Work by two years; and (2) the submission of the Annual Report of Accomplishments and Results for the current 5-Year Plan of Work (i.e., for FY 2003 and FY 2004) and the FY 2005-FY 2006 Plan of Work Update (i.e., for FY 2005 and FY 2006).

1. The first collection of information is required in order to satisfy the above amendments to the Acts that authorize the distribution of agricultural research and extension formula funds to States and eligible institutions. In addition to a description of planned programs, the FY 2005-FY 2006 Plan of Work Update must include information on how critical short-term, intermediate, and long-term agricultural issues in the State will be addressed in research and extension programs; how the State or eligible institution has developed a process to consult users of agricultural extension and research in the identification of critical agricultural issues in the State and the development of programs and projects targeting these issues (also referred to as stakeholder input); how the State or eligible institution has made efforts to identify and collaborate with other universities and colleges that have a unique capacity to address the identified agricultural issues in the State and the extent of current and emerging efforts (including the regional and/or multistate efforts) to work with these institutions; the manner in which research and extension, including research and extension activities funded other than through formula funds, will cooperate to address the critical issues in the State, including activities to be carried out separately, sequentially, or jointly; and for extension, the education and outreach programs already underway to convey available research results that are pertinent to a critical agricultural issue, including efforts to encourage multicounty cooperation in the dissemination of research information.

Section 103(e) of AREERA (7 U.S.C. 7613(e)) also required, effective October 1, 1999, that a merit review process be established at the 1862 land-grant institutions and 1890 land-grant institutions in order to obtain agricultural research and extension formula funds. The current 5-Year Plan of Work includes a section for the description of the merit review process to ensure that such a process is in place prior to the distribution of agricultural research and extension formula funds.

Sections 104 and 105 of AREERA also amended the Hatch Act and Smith-Lever Act to require that a specified amount of the agricultural research and extension formula funds be expended for multistate activities and that a description of these activities be reported in the plan of work. Section 204 of AREERA further amended the Hatch Act and Smith-Lever Act to require that a specified amount of the agricultural research and extension formula funds be expended for activities that integrate cooperative research and extension and that a description of these activities be included in the plan of work. Two components of the 5-Year Plan of Work submission have been included to meet these additional requirements.

2. The second collection of information will be the Annual Report of Accomplishments and Results. This will be based on the existing 5-Year Plan of Work and the approved FY 2005-FY 2006 Plan of Work Update, and will assist CSREES in ensuring that federally supported and conducted research and extension activities are accomplished in accordance with the management principles set forth under section 102(d) of AREERA (7 U.S.C. 7612(d)). These principles require that to the maximum extent possible, CSREES shall ensure that federally supported research and extension activities are accomplished in a manner that integrates agricultural research, extension, and education functions to better link research to technology transfer and information dissemination activities; encourages regional and multistate programs to address relevant issues of common concern and to better leverage scarce resources; and achieves agricultural research, extension, education objectives through multi-institutional and multifunctional approaches and by conducting research at facilities and institutions best equipped to achieve these objectives.

CSREES is proposing to request a Plan of Work Update to the existing 5-Year Plan of Work (i.e., FY 2000-FY 2004) instead of a new 5-Year Plan of Work in order to allow CSREES to incorporate the recommendations from the USDA Office of Inspector General (OIG) Audit No. 13001-3-Te, CSREES Implementation of the Agricultural Research, Extension, and Education Reform Act of 1998 (AREERA) in the plan-of-work process. In addition, CSREES needs time, once the final recommendations are made, to develop a viable electronic option for compliance with the Government Paperwork Elimination Act (GPEA). Currently, institutions are submitting their reports via e-mail in WordPerfect file format, Microsoft Word file format, or ASCII file format, and CSREES proposes to have the institutions to do so until a viable electronic option is available. CSREES also is in the process of developing a “One-Solution” for reporting for all CSREES grant programs including those covered in the 5-Year Plan of Work. A “One-Solution” integrated reporting system will be more streamlined and effective, eliminate duplicative reporting, and provide additional program and fiscal accountability while reducing the overall burden hours for reporting.

Respondents: Respondents will be the 57 1862 land-grant institutions and the 18 1890 land-grant institutions, including Tuskegee University and West Virginia State College, who will provide a FY 2005-FY 2006 Plan of Work Update; and will report on the accomplishments and results of the original 5-year plan of work and the FY 2005-2006 Plan of Work Update annually to CSREES.

Estimate of Burden: The amendments to AREERA require a plan of work for funds that are distributed on an annual basis. To reduce the burden on respondents, CSREES proposes to extend the current 5-Year Plan of Work (i.e., FY 2000—FY 2004) for two years by allowing the 5-Year Plan of Work to be amended by adding the FY 2005-FY 2006 Plan of Work Update.

The total reporting and recordkeeping requirements for the submission of the “FY 2005-FY 2006 Plan of Work Update” is estimated to average 242 hours per response.

Estimated Number of Respondents: 75.

Estimated Number of Responses: 95.

Estimated Total Annual Burden on Respondents: 22,990 hours.

Frequency of Responses: Once for the FY 2005-FY 2006.

The total annual reporting and recordkeeping requirements for the “Annual Report of Accomplishments and Results” is estimated to average 851 hours per response.

Estimated Number of Respondents: 75.

Estimated Number of Responses: 95.

Estimated Total Annual Burden on Respondents: 80,845 hours.

Frequency of Responses: Annually.

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of collection of information on those who are to respond, including the use of appropriate automated, electronic, mechanical, or other technological collection techniques or other forms of information technology. Comments may be sent to: CSREES-USDA; Planning and Accountability, Office of the Administrator; Mail Stop 2214; 1400 Independence Avenue, SW., Washington, DC 20250-2214 by October 14, 2003, or to the Desk Officer for Agriculture, Office of Information and Regulatory Affairs, Office of Management and Budget, Washington, DC 20502. Reference should be made to the volume, page, and date of this Federal Register publication.

Background and Purpose

The Cooperative State Research, Education, and Extension Service (CSREES) proposes to revise the Guidelines for State Plans of Work for the Agricultural Research and Extension Formula Funds which implement the plan-of-work reporting requirements enacted in the Agricultural Research, Extension, and Education Reform Act of 1998 (AREERA), Pub. L. 105-185, by adding Part V, FY 2005-FY 2006 Plan of Work Update. CSREES is proposing that the 1862 and 1890 land-grant institutions be required to submit a Plan of Work Update only for FY 2005 and FY 2006, instead of submitting a new 5-Year Plan of Work for FY 2005-FY 2009, as CSREES needs to incorporate the recommendations from the USDA Office of Inspector General (OIG) Audit No. 13001-3-Te, CSREES Implementation of the Agricultural Research, Extension, and Education Reform Act of 1998 (AREERA) into the 5-Year Plan of Work. Consequently, once the final audit recommendations are made, CSREES needs time to develop a viable electronic option for compliance with the Government Paperwork Elimination Act (GPEA). Currently, institutions are submitting their reports via e-mail in WordPerfect file format, Microsoft Word file format, or ASCII file format, and CSREES proposes to have the institutions to do so until a viable electronic option is available.

The objective of the USDA OIG Audit is to determine whether CSREES established effective controls to ensure land-grant institutions implemented AREERA provisions in accordance with the law and regulations. The audit began on November 8, 2002, and the fieldwork is still being conducted. CSREES would like to consider the findings and recommendations of that audit in the design of the next 5-year plan of work. Time also is needed for CSREES to consult with its partnering institutions—1862 and 1890 land-grant institutions—in any redesign of the plan-of-work reporting system or extensive revision of the existing Guidelines for the State Plans of Work. This 2-year period will allow for the consideration of the USDA OIG audit findings and recommendations, opportunity to consult with the 1862 and 1890 land-grant institutions on any extensive revisions to the current Guidelines for State Plans of Work, and the development of a viable electronic option in compliance with GPEA.

CSREES also is proposing to change the due date of the Annual Report of Accomplishments and Results from March 1 to April 1. On December 28, 2000 (65 FR 82317), CSREES changed the original due date for the Annual Reports of Accomplishments and Results from December 31 to the following March 1 after consultation with the 1862 and 1890 land-grant institutions. CSREES is now proposing to extend the due date for the Annual Report of Accomplishments and Results to April 1, 2004, for FY 2003; April 1, 2005, for FY 2004; April 1, 2006, for FY 2005; and April 1, 2007, for FY 2006.

Pursuant to the plan of work requirements enacted in the Agricultural Research, Extension, and Education Reform Act of 1998, the Cooperative State Research, Education, and Extension Service hereby to add Part V, FY 2005-FY 2006 Plan of Work Update, to the Guidelines for State Plans of Work for Agricultural Research and Extension Formula Funds as follows:

Guidelines for State Plans of Work for Agricultural Research and Extension Formula Funds

Table of Contents

V. Submission of the FY 2005-2006 Plan of Work Update

A. General

1. Planning Option

2. Period Covered

3. Projected Resources

4. Submission and Due Date

5. Certification

B. FY 2005-2006 Plan of Work Update Evaluation by CSREES

1. Schedule

2. Review Criteria

The FY 2005-FY 2006 Plan of Work Update is a prospective plan that extends coverage of the original 5-Year Plan of Work (i.e., FY 2000-FY 2004) to include FY 2005-FY 2006. The FY 2005-2006 Plan of Work Update should be prepared for an institution's individual functions (i.e., research or extension activities), for an individual institution (including the planning of research and extension activities), or for state-wide activities (a 5-year research and/or extension plan of work for all the eligible institutions in a State), as they were submitted in the original 5-Year Plan of Work that was due on July 15, 1999. Each FY 2005-FY 2006 Plan of Work Update must reflect the content of the program(s) funded by Federal agricultural research and extension formula funds and the required matching funds. This FY 2005-FY 2006 Plan of Work Update must continue to describe not only how the program(s) address critical short-term, intermediate, and long-term agricultural issues in a State, but how it relates to and is part of the five broad national goals as outlined above and originally described in the previous 5-year plan of work, thus expanding upon and extending the existing plan with new or continuing efforts.

The FY 2005-FY 2006 Plan of Work Update should continue to be based on the five original national goals established in the FY 2000-FY 2004 5-year Plan of Work as described in section II.B.1.

2. Period Covered

The FY 2005-FY 2006 Plan of Work Update will extend the current 5-Year Plan of Work that covered the period from October 1, 1999, through September 30, 2004, to include the period from October 1, 2004, through September 30, 2006.

3. Projected Resources

The resources that are allocated for various planned programs in the FY 2005-2006 Plan of Work Update, in terms of human and fiscal measures, should be included and projected to include the sixth and seventh years. The baseline for the institution's or State's initial plan (for the two years) should be the Federal agricultural research and extension formula funds for FY 1999 and the required level (i.e., percentage) of matching funds for FY 2005 and FY 2006.

4. Submission and Due Date

The FY 2005-FY 2006 Plan of Work Update must be submitted by April 1, 2004, to the Planning and Accountability Unit, Office of the Administrator of the Cooperative State Research, Education, and Extension Service; U.S. Department of Agriculture. It is preferred that these FY 2005-FY 2006 Plan of Work Updates be submitted electronically to bhewitt@csrees.usda.gov in either WordPerfect file format, Microsoft Word file format, or ASCII file format. It also is requested that the FY 2003 Annual Report of Accomplishments and Results be submitted with the FY 2005-FY 2006 Plan of Work Update in order to facilitate a more efficient and comprehensive review for both CSREES and the land-grant institutions.

5. Certification

The FY 2005-FY 2006 Plan of Work Updates must be signed by the 1862 Extension Director, 1862 Research Director, 1890 Extension Administrator, and/or 1890 Research Director, depending on the planning option chosen.

B. FY 2005-2006 Plan of Work Update Evaluation by CSREES

1. Schedule

All FY 2005-FY 2006 Plan of Work Updates will be evaluated by CSREES in conjunction with the review of the FY 2003 Annual Report of Accomplishments and Results. The FY 2005-FY 2006 Plan of Work Update will either be accepted by CSREES without change or returned to the institution, with clear and detailed recommendations for its modification. The submitting institution(s) will be notified by CSREES of its determination within 90 days (review to be completed in 60 days, communications to the institutions allowing a 30-day response) of receipt of the document. Adherence to the Plan of Work schedule by the recipient institution is critical to assuring the timely allocation of funds by CSREES. The FY 2005-FY 2006 Plan of Work Updates accepted by CSREES will be in effect for the period beginning October 1, 2004, through September 30, 2006. CSREES will notify all institutions of a need for a new 5-year plan of work two years prior to the plan's expiration on September 30, 2006.

2. Review Criteria

CSREES will evaluate the FY 2005-FY 2006 Plan of Work Update according to the criteria in section II.C.2.

Done at Washington, DC, this 1st day of August, 2003.
Colien Hefferan,
Administrator, Cooperative State Research, Education, and Extension Service.

[FR Doc. 03-20122 Filed 8-6-03; 8:45 am]

BILLING CODE 3410-22-P